DEPARTMENT OF AGRICULTURE

Food Safety and Inspection Service

[Docket No. FSIS-2023-0001]

Best Practices Guidance for Controlling Listeria Monocytogenes in Retail Delicatessens

AGENCY: Food Safety and Inspection Service (FSIS), U.S. Department of Agriculture (USDA).

ACTION: Notice of availability.

SUMMARY: FSIS is announcing the availability of its updated Best Practices Guidance for Controlling Listeria monocytogenes (Lm) in Retail Delicatessens. The best-practices guidance discusses steps that retailers can take to prevent certain ready-to-eat (RTE) foods that are prepared or sliced in retail delicatessens (delis) and consumed in the home, such as deli meats and deli salads, from becoming contaminated with Lm and thus a source of listeriosis. FSIS encourages retailers to review the guidance and evaluate the effectiveness of their retail practices and intervention strategies in reducing the risk of listeriosis to consumers from RTE meat and poultry deli products.

ADDRESSES: A downloadable version of the guide is available to view and print at: https://www.fsis.usda.gov/policy/fsis-guidelines. No hard copies of the best-practices guidance have been published.

FOR FURTHER INFORMATION CONTACT: Rachel Edelstein, Assistant Administrator, Office of Policy and Program Development by telephone at (202) 937-4272.

SUPPLEMENTARY INFORMATION:

Background

Lm is a bacterium that is found in moist environments, soil, and decaying vegetation and can persist along the food continuum. Transfer of the bacterium from the environment (e.g., deli cases, slicers, and utensils), employees, or contaminated food products is a particular hazard of concern in RTE foods, including meat and poultry products, because they generally receive no further processing that would kill Lm before consumption. Listeriosis is a serious infection with a high mortality rate, usually caused by eating food contaminated with Lm.

In 2013, FSIS and the U.S. Food and Drug Administration (FDA) conducted an interagency risk assessment on Lm to better understand the risk of foodborne illness associated with eating certain RTE foods prepared in retail delis and developed recommendations for changes in current practices that may improve the safety of those products. FSIS and FDA made their findings available to the public in the Interagency Risk Assessment—Listeria monocytogenes in Retail Delicatessens (Interagency Retail Lm Risk Assessment) (79 FR 22082). FSIS also published its FSIS Best Practices Guidance for Controlling Listeria monocytogenes (Lm) in Retail Delicatessens.

FSIS is announcing that it has revised its best practices guidance in response to FSIS focus group findings ¹ and recommendations from the National Advisory Committee on Meat and Poultry Inspection (NACMPI).² FSIS has also made changes to incorporate more recent scientific knowledge, update references to the FDA Food Code, and improve consistency, clarity, and overall content. For example, FSIS replaced the summary of findings from the Interagency Retail Lm Risk Assessment with a hyperlink to the risk assessment. FSIS also removed the recommendation that retailers should rotate sanitizers. FSIS relocated the Deli Self-Assessment Tool to the Appendices and added a glossary to the Appendices. Finally, FSIS added the following new sections: Sources of Listeria in Retail Firms, Active Managerial Control, and Risk Mitigation of Listeria monocytogenes (Lm) in Retail Firms. The updated best practices guidance is available at: https://www.fsis.usda.gov/guidelines/2015-0014.

¹ Retail Listeria monocytogenes (Lm) Focus Group Findings (usda.gov).

² Available at: https://www.fsis.usda.gov/sites/default/files/media_file/2021-02/Best-Practices-Guidance-Controlling-LM-Retail.pdf.

The guidance continues to provide practical recommendations that retailers can follow to control Lm contamination and outgrowth in the deli. Retailers can use the best practices guidance to help ensure that RTE meat and poultry products in the deli area are handled under sanitary conditions and are not adulterated under the Federal Meat Inspection Act (21 U.S.C. 601 et seq.) or the Poultry Products Inspection Act (21 U.S.C. 451 et seq.) (see 21 U.S.C. 623(d) and 464(e)). While these practices are specifically designed to control Lm, they also may help control other foodborne pathogens that may be introduced into the retail deli environment and other facilities where consumers purchase food.

Additional Public Notification

Public awareness of all segments of rulemaking and policy development is important. Consequently, FSIS will announce this Federal Register publication online through the FSIS web page located at: https://www.fsis.usda.gov/federal-register.

FSIS also will make copies of this publication available through the FSIS Constituent Update, which is used to provide information regarding FSIS policies, procedures, regulations, Federal Register notices, FSIS public meetings, and other types of information that could affect or would be of interest to our constituents and stakeholders. The Constituent Update is available on the FSIS web page. Through the web page, FSIS provides information to a much broader, more diverse audience. In addition, FSIS offers an email subscription service which provides automatic and customized access to selected food safety news and information. This service is available at: https://www.fsis.usda.gov/subscribe. Options range from recalls to export information, regulations, directives, and notices. Customers can add or delete subscriptions themselves and have the option to password protect their accounts.

USDA Non-Discrimination Statement

In accordance with Federal civil rights law and USDA civil rights regulations and policies, USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form AD-3027, USDA Program Discrimination Complaint Form, which can be obtained online at https://www.usda.gov/forms/electronic-forms, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410;

(2) Fax: (833) 256-1665 or (202) 690-7442; or

(3) Email: program.intake@usda.gov.

USDA is an equal opportunity provider, employer, and lender.

Done at Washington, DC.
Theresa Nintemann,
Deputy Administrator, FSIS.

[FR Doc. 2023-12994 Filed 6-16-23; 8:45 am]

BILLING CODE 3410-DM-P